DEPARTMENT OF TRANSPORTATION

Surface Transportation Board

[Docket No. AB 32 (Sub-No. 106X)]

Boston and Maine Corporation—Discontinuance of Service Exemption—in Essex County, Mass

Boston and Maine Corporation (B&M) filed a verified notice of exemption under 49 CFR part 1152 subpart F—Exempt Abandonments and Discontinuances of Service to discontinue service over approximately 1.4 miles of railroad line in Essex County, Mass. (the Line). The Line, known as the Manchester and Lawrence Branch, extends between mileposts 0.00 and 1.4 and traverses United States Postal Service Zip Code 01840.

B&M has certified that: (1) No local traffic has moved over the Line for at least two years; (2) there is no overhead traffic on the Line; (3) no formal complaint filed by a user of rail service on the Line (or by a state or local government entity acting on behalf of such user) regarding cessation of service over the Line either is pending before the Surface Transportation Board or any U.S. District Court or has been decided in favor of a complainant within the two-year period; and (4) the requirements at 49 CFR 1105.7(c) (environmental report), 49 CFR 1105.11 (transmittal letter), 49 CFR 1105.12 (newspaper publication), and 49 CFR 1152.50(d)(1) (notice to governmental agencies) have been met.

As a condition to this exemption, any employee adversely affected by the discontinuance shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) to subsidize continued rail service has been received, this exemption will become effective on March 28, 2015 (50 days after the filing of the exemption), unless stayed pending reconsideration. Petitions to stay that do not involve environmental issues and formal expressions of intent to file an OFA to subsidize continued rail service under 49 CFR 1152.27(c)(2) ¹ must be filed by March 9, 2015.² Petitions to reopen must be filed by March 18, 2015, with the Surface Transportation Board, 395 E Street SW., Washington, DC 20423-0001.

¹ Each OFA must be accompanied by the filing fee, which is currently set at $1,600. See 49 CFR 1002.2(f)(25).

² Because this is a discontinuance proceeding and not an abandonment, interim trail use/rail banking and public use conditions are not appropriate.

A copy of any petition filed with the Board should be sent to B&M's representative: Robert B. Burns, Esq., Pan Am Railways, 1700 Iron Horse Park, Billerica, MA 01862.

If the verified notice contains false or misleading information, the exemption is void ab initio.

Board decisions and notices are available on our Web site at www.stb.dot.gov.

Decided: February 23, 2015.
By the Board, Rachel D. Campbell, Director, Office of Proceedings.
Jeffrey Herzig,
Clearance Clerk.

[FR Doc. 2015-04106 Filed 2-25-15; 8:45 am]

BILLING CODE 4915-01-P